DEPARTMENT OF LABOR

Employment and Training Administration

Trade Adjustment Assistance Program; Designation of Certifying Officers

AGENCY: Employment and Training Administration; Labor.

ACTION: Notice of designation of certifying officers.

SUMMARY: The trade adjustment assistance (TAA) program operates under the Trade Act of 1974, as amended, to provide assistance to domestic workers adversely affected in their employment by certain types of foreign trade. The Trade and Globalization Adjustment Assistance Act of 2009 amended the Trade Act of 1974, expanded TAA coverage to more workers and firms, including workers and firms in the service sector; made benefits available to workers whose jobs have been off-shored to any country, as opposed to only covering certain shifts in production; and improved workers' training opportunities and opportunities for health insurance coverage. The new law also included additional funding for employment services and case management, extended income support, increased funding for training, and provided for earlier access to training. Workers become eligible for program benefits only if the worker group is certified under the Act as eligible to apply for adjustment assistance. From time to time the agency issues an Order designating or redesignating officials of the agency authorized to act as certifying officers, responsible for reviewing and signing adjustment assistance determinations. Employment and Training Order No. 1-09 was issued to revise the listing of officials designated as certifying officers, superseding the previous Order. The Employment and Training Order No. 1-09 is published below.

FOR FURTHER INFORMATION CONTACT: Erin FitzGerald, 202-693-3560.

EMPLOYMENT AND TRAINING ORDER NO. 1-09

TO: NATIONAL AND REGIONAL OFFICES

FROM: JANE OATES

Assistant Secretary for Employment and Training

SUBJECT: Trade Adjustment Assistance Program (Trade Act of 1974)—Designation of Certifying Officers

1. Purpose. To designate certifying officers to carry out functions under the Trade Adjustment Assistance (TAA) program under chapter 2 of title II of the Trade Act of 1974, as amended (19 U.S.C. 2271 et seq.), and the implementing regulations at 29 CFR part 90.

2. Directive Affected. Employment and Training Order No. 1-05, February 1, 2005, 70 FR 6754 (February 8, 2005), which designated Certifying Officers, is superseded.

3. Background. Regulations at 29 CFR part 90 vest persons designated as certifying officers with the authority and responsibility to make determinations and redeterminations and to issue certifications of eligibility of groups of workers to apply for adjustment assistance under the TAA program.

4. Designation of Officials. By virtue of my authority under Secretary's Order No. 03-2009, January 9, 2009 (74 FR 2270, Jan. 14, 2009), I designate or redesignate as certifying officers for the TAA program:

a. Del Min Amy Chen, Program Analyst, Division of Trade Adjustment Assistance.

b. Richard Church, Program Analyst, Division of Trade Adjustment Assistance.

c. Michael W. Jaffe, Program Analyst, Division of Trade Adjustment Assistance.

d. Elliott S. Kushner, Program Analyst, Division of Trade Adjustment Assistance.

e. Linda G. Poole, Program Analyst, Division of Trade Adjustment Assistance.

The foregoing officials are delegated authority and assigned responsibility, subject to the general direction and control of the Assistant Secretary and Deputy Assistant Secretaries of the Employment and Training Administration, and the director of the Division of Trade Adjustment Assistance or the successor office, to carry out the duties and functions of certifying officers under 29 CFR part 90 and any succeeding regulations.

5. Effective Date. This order is effective on date of issuance.

This order rescinds ETO 1-05.

Dated: Signed this 7th day of August 2009.
Jane Oates,
Assistant Secretary, Employment and Training Administration.

[FR Doc. E9-19322 Filed 8-11-09; 8:45 am]

BILLING CODE 4510-FN-P